DEPARTMENT OF ENERGY

Federal Energy Regulatory Commission

[Docket No. IC22-8-000]

Commission Information Collection Activities (Ferc-1000); Comment Request; Extension

AGENCY: Federal Energy Regulatory Commission.

ACTION: Three-year renewal of information collection and request for comments.

SUMMARY: In compliance with the requirements of the Paperwork Reduction Act of 1995, the Federal Energy Regulatory Commission (Commission or FERC) is soliciting public comment on the currently approved information collection, FERC-1000 (Request for a Medical Exception to the COVID-19 Vaccination Requirement).

DATES: Comments on the collection of information are due May 16, 2022.

ADDRESSES: You may submit copies of your comments (identified by Docket No. IC22-8-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to Federal Energy Regulatory Commission, Secretary of the Commission, 888 First Street NE, Washington, DC 20426.

○ Hand (including courier) delivery to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, or telephone at (202) 502-8663.

SUPPLEMENTARY INFORMATION:

Title: FERC-1000, Request for a Medical Exception to the COVID-19 Vaccination Requirement.

OMB Control No.: 1902-0320.

Abstract: The purpose of this three-year renewal of the information collection is to allow the Federal Energy Regulatory Commission to collect information from FERC employees (and their medical providers) applying for a medical exception to the COVID-19 Vaccination Requirement as specified in Part 2 of FERC Form No. 1000.¹

¹ The vaccination requirement issued pursuant to E.O. 14043, is currently the subject of a nationwide injunction. While that injunction remains in place, the Federal Energy Regulatory Commission (FERC) will not process requests for a medical exception from the COVID-19 vaccination requirement pursuant to E.O. 14043. FERC will also not request the submission of any medical information related to a request for an exception from the vaccination requirement pursuant to E.O. 14043 while the injunction remains in place. But FERC may nevertheless receive information regarding a medical exception. That is because, if FERC were to receive a request for an exception from the COVID-19 vaccination requirement pursuant to E.O. 14043 during the pendency of the injunction, FERC will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Consistent with guidance from the Centers for Disease Control and Prevention (CDC), guidance from the Safer Federal Workforce Task Force established pursuant to Executive Order 13991 of January 20, 2021, Protecting the Federal Workforce and Requiring Mask-Wearing, and Executive Order 14043 of September 9, 2021, Requiring Coronavirus Disease 2019 Vaccination for Federal Employees, the request for this information collection is essential to implement the Commission's health and safety measures regarding the federal employee medical exceptions to the COVID-19 mandatory vaccinations. In addition, the Rehabilitation Act of 1973, as amended, requires Federal Agencies to provide reasonable accommodations to qualified employees with disabilities unless that reasonable accommodation would impose an undue hardship on the employee's Agency. See 29 U.S.C. 791 and 29 CFR part 1614; see also 20 CFR part 1630 and Executive Order 13164 of July 26, 2000, Requiring Federal Agencies to Establish Procedures to Facilitate the Provision of Reasonable Accommodation. Section 2 of E.O. 14043 mandates that each agency, “implement, to the extent consistent with applicable law, a program to require COVID-19 vaccination for all of its Federal employees, with exceptions only as required by law.” This medical exception form (FERC Form No. 1000) is necessary for the Commission to determine whether to grant medical exceptions to the vaccine requirement under the Rehabilitation Act.

The information being requested helps promote the safety of the Federal workforce, Federal buildings, and others on site at FERC facilities. This collection is consistent with the COVID-19 Workplace Safety Agency Model Safety Principles established by the White House Safer Federal Workforce Task Force and guidance from the Centers for Disease Control and Prevention.

Type of Respondent: Medical Providers.

Estimate of Annual Burden: ² The Commission estimates the annual public reporting burden for the information collection as:

² “Burden” is the total time, effort, or financial resources expended by persons to generate, maintain, retain, or disclose or provide information to or for a Federal agency. For further explanation of what is included in the information collection burden, refer to Title 5 Code of Federal Regulations 1320.3.

FERC-1000: Request for a Medical Exception to the COVID-19 Vaccination Requirement
| Number of respondents | Annual number of responses per respondent | Total number of responses | Average burden & cost per response ³ | Total annual burden hours & total annual cost
| (1) | (2) | (1) * (2) = (3) | (4) | (3) * (4) = (5)
Medical Provider | 24 | 1 | 24 | 30 minutes (½ hour); $72 | 720 minutes (12 hours); $1,728.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ Cost estimates are based on industry costs for general internal medicine physicians (29-1216) defined by the Bureau of Labor Statistics. The cost figure for the general internal medicine physicians in 2021 was an average annual salary plus benefits of $300,076/year or $144/hour.

Dated: March 11, 2022.
Kimberly D. Bose,
Secretary.

[FR Doc. 2022-05641 Filed 3-16-22; 8:45 am]

BILLING CODE 6717-01-P